DEPARTMENT OF AGRICULTURE

Rural Utilities Service

Speedway Solar Project: Notice of Intent To Prepare an Environmental Impact Statement and Hold Public Scoping Meeting on February 2, 2022

AGENCY: Rural Utilities Service, USDA.

ACTION: Notice of intent to prepare an Environmental Impact Statement and hold public scoping meeting.

SUMMARY: The Rural Utilities Service (RUS) announces its intent to prepare an Environmental Impact Statement (EIS) and to hold a virtual public scoping meeting in connection with possible impacts related to a project proposed by Speedway Solar LLC (Speedway Solar). The primary scope of the EIS is to evaluate the environmental impacts of and alternatives to Speedway Solar's application for financial assistance to develop the Speedway Solar Project (Project), a 199-megawatt (MW) solar array using photovoltaic (PV) modules on private, primarily agricultural lands in Shelby County, Indiana. RUS is considering funding this application, thereby making the proposed Project an undertaking subject to review under the National Historic Preservation Act (NHPA). RUS has determined that a loan for the Project would be a federal action and is, therefore, subject to National Environmental Policy Act (NEPA) review.

DATES: One virtual public scoping meeting webinar will be held on February 2, 2022, from 6:00 p.m. EST-8:00 p.m. EST via Zoom. The public scoping meeting will be conducted in a virtual format with RUS and Speedway Solar representatives. Attendees will be able to submit comments during the virtual public meeting orally or via the chat function. The public scoping meeting will be recorded and kept as part of the Project record. Equal weight will be given to oral and written (chat) comments. More information about the virtual public scoping meeting can be found at: https://www.rd.usda.gov/resources/environmental-studies/impact-statements.

Written requests to participate as a “consulting party” or to provide comments for consideration during the scoping process for the proposed Project must be received on or before February 14, 2022.

ADDRESSES: To request “consulting party” status, submit comments, or for further information, please contact: SpeedwaySolarEIS@usda.gov. Although electronic submittal is strongly encouraged, written comments may also be submitted by regular mail to United States Department of Agriculture, Attention: Peter Steinour, Mail Stop 1570, Rural Utilities Service, WEP/EES, 1400 Independence Ave. SW, Washington, DC 20250.

Project-related information will be available at RUS's and Speedway Solar's websites located at: https://www.rd.usda.gov/resources/environmental-studies/impact-statements, and https://speedwaysolar.com/. This includes the Alternative Evaluation and Site Selection Studies prepared for the project. Project information will also be available at the Shelby County Public Library Morristown Branch at 127 E Main St., Morristown, IN.

SUPPLEMENTARY INFORMATION: The RUS is the lead federal agency, as defined at 40 CFR 1508.1(o), for preparation of the EIS. With this notice, federal and state agencies and federally-recognized Tribes with jurisdiction or special expertise are invited to be cooperating agencies. Such agencies or tribes may make a request to RUS to be a cooperating agency by contacting the RUS contact provided in this notice. Designated cooperating agencies have certain responsibilities to support the NEPA and scoping process, as specified at 40 CFR 1501.8.

In addition, RUS invites any affected federal, state, and local agencies, Tribes, and other interested persons to comment on the scope, alternatives, and significant issues to be analyzed in depth in the EIS.

Public participation is an integral component of the environmental review process for federal actions. Public participation will be especially important during the scoping phase of the proposed Project. The RUS will be seeking information, comments, and assistance from federal, State, and local agencies, Tribes, and other individuals who may be interested in or affected by the proposed Project. This input will be used in preparing the Draft EIS. Comments submitted during the scoping process should be in writing. The comments should describe as clearly and completely as possible any issues, concerns, or input commenters may have so that they can be addressed appropriately in the EIS.

The RUS is considering funding this application, thereby making the proposed Project an undertaking subject to review under Section 106 of the National Historic Preservation Act (NHPA), 16 U.S.C. 470(f), and its implementing regulation, “Protection of Historic Properties” (36 CFR part 800). Any party wishing to participate directly with RUS as a “consulting party” in Section 106 review may submit a written request to the RUS contact provided below. Pursuant to 36 CFR 800.3(f)(3), RUS will consider, and provide a timely response to, any and all requests for consulting party status.

The Project will consist of a 199-megawatt (MW) solar array using photovoltaic (PV) modules on private lands in Shelby County, Indiana. The Project consists of a 199-MW solar array that will utilize PV modules. The Project consists of two major components: PV solar arrays (the main Project footprint) and transmission interconnection facilities (a collector substation). The Project will be located entirely on privately owned farmland in a rural area in Shelby County, Indiana. The Application Area encompasses approximately 1,800 acres. Within the Application Area, construction will occur on an approximately 1,100-acre project area.

Speedway Solar entered into a power purchase agreement with Wabash Valley Power Alliance (WVPA) for the solar and energy storage project. WVPA's objective is to provide safe, adequate, and reliable power to its members at the lowest reasonable cost. The Project will allow the Applicant to provide the additional generation capacity needed by WVPA to achieve these goals and to serve electrical needs within the service territories of their member cooperatives.

Among the alternatives that RUS will address in the EIS is the No Action alternative, under which the proposal will not be undertaken or if RUS did not fund the proposed Project, other sites evaluated by Speedway Solar, and any reasonable alternatives defined as a result of the scoping process. In the EIS, the effects of the proposal will be compared to the existing conditions in the affected area of the proposal. Public health and safety, environmental impacts (such as impacts to vegetation, soils/prime farmland, wildlife/endangered species, cultural resources, and land use), socio-economic, and engineering aspects of the proposal will also be considered in the EIS.

As part of its broad environmental review process, RUS must take into account the effect of the proposal on historic properties in accordance with Section 106 of the NHPA (Section 106) and its implementing regulation, “Protection of Historic Properties” (36 CFR 800). Pursuant to 36 CFR 800.2(d)(3), RUS is using its procedures for public involvement under NEPA to meet its responsibilities to solicit and consider the views of the public during NHPA Section 106 review. Accordingly, comments submitted in response to this Notice will inform RUS decision-making during NHPA Section 106 review.

In addition to compliance with Section 106, the Project will require evaluation under Section 404 of the Clean Water Act and will obtain required state, county, and local permits. The Project has received approval from the Shelby County Board of Zoning Appeals.

From information provided in the studies mentioned above, and using input provided by government agencies, tribes, and the public, RUS will prepare a Draft EIS. The Draft EIS will be filed with the U.S. Environmental Protection Agency (USEPA) and will be available for public comment by Spring 2022. At that time, RUS and USEPA will publish a notice of the availability of the Draft EIS and notice of receipt, respectively, in the Federal Register. In addition, Speedway Solar will publish notices in local newspapers and any online local news sources. The comment period will be 45 days from the date the EPA publishes its Federal Register notice announcing receipt of the Draft EIS.

To assist the involved federal agencies in identifying and considering issues and concerns on the proposal, comments on the Draft EIS should be as specific as possible. It is also helpful if the comments refer to the specific pages or chapters of the Draft EIS. Comments may also address the adequacy of the Draft EIS or the merits of the alternatives formulated and discussed in the statement. Reviewers may wish to refer to the CEQ's regulations at 40 CFR 1503.3 in addressing these points. After the comment period ends on the Draft EIS, the comments will be analyzed, considered, and responded to by the agencies involved in preparing the Final EIS.

The public will again have the opportunity to review and comment on the Final EIS. Upon completion of a 30-day public comment period, the RUS will document its decision regarding the proposed Project and reasons for the decision in a Record of Decision. A public notice announcing the availability of the Record of Decision will be published in the Federal Register and local newspapers.

Any final action by RUS related to the proposal will be subject to, and contingent upon, compliance with all relevant executive orders and federal, state, and local environmental laws and regulations in addition to the completion of the environmental review requirements as prescribed in 7 CFR 1970, Environmental Policies and Procedures.

Christopher A. McLean,
Acting Administrator, Rural Utilities Service, U.S. Department of Agriculture.

[FR Doc. 2022-00688 Filed 1-13-22; 8:45 am]

BILLING CODE 3410-15-P